DEPARTMENT OF VETERANS AFFAIRS

38 CFR Part 17

RIN 2900-AP57

Program for the Repayment of Educational Loans, Urgent Care, and Specialty Education Loan Repayment Program; Correction

AGENCY: Department of Veterans Affairs.

ACTION: Correcting amendment; correction.

SUMMARY: This document corrects the final rule published on March 2, 2023, revising the Department of Veterans Affairs (VA) regulation that governs the Program for the Repayment of Educational Loans (PREL) by correcting the section number provided in the DATES section.

DATES: This correction is effective March 24, 2023.

FOR FURTHER INFORMATION CONTACT: Ethan Kalett, Office of Regulations, Appeals, and Policy, Veterans Health Administration, Department of Veterans Affairs, 810 Vermont Avenue NW, Washington, DC 20420, (202) 461-7633. (This is not a toll free number.)

SUPPLEMENTARY INFORMATION:

Revisions to § 17.643 of Title 38, Code of Federal Regulations (CFR)

In a final rule published in the Federal Register (FR) on March 2, 2023, at 88 FR 13033, VA added the OMB collection number to § 17.643 for the PREL, which is a program in which VA repays educational loans to individuals who pursued a program of study leading to a degree in psychiatric medicine and who are seeking employment in VA. The Paperwork Reduction Act of 1995 (44 U.S.C. 3507). requires that VA consider the impact of paperwork and other information collection burdens imposed on the public. Under 44 U.S.C. 3507(a), an agency may not collect or sponsor the collection of information, nor may it impose an information collection requirement unless it displays a currently valid Office of Management and Budget (OMB) control number. See also 5 CFR 1320.8(b)(3)(vi). We had indicated in the DATES section of the final rule that the effective date for the OMB collection number was for § 17.644. However, the correct section for the OMB collection is § 17.643, not § 17.644. This document corrects the DATES section of that rule to reference the correct document and reflect the full history of the regulation.

Correction

In the Federal Register of March 2, 2023 in FR Doc. 2023-04144, on page 13033 in the third column, correct the DATES caption to read:

DATES: Section 17.643 of title 38, published at 81 FR 66815 on September 29, 2016, and corrected at 82 FR 4795 on January 17, 2017, is effective March 2, 2023. This final rule is effective March 2, 2023.

Consuela Benjamin,
Regulations Development Coordinator, Office of Regulation Policy & Management, Office of General Counsel, Department of Veterans Affairs.

[FR Doc. 2023-06048 Filed 3-23-23; 8:45 am]

BILLING CODE 8320-01-P